DEPARTMENT OF COMMERCE

International Trade Administration

[A-570-106, C-570-107]

Wooden Cabinets and Vanities and Components Thereof From the People's Republic of China: Final Scope Determination, Certification Requirements, and Recission of Circumvention Inquiries on the Antidumping and Countervailing Duty Orders; Correction

AGENCY: Enforcement and Compliance, International Trade Administration, Department of Commerce.

ACTION: Notice; Correction.

SUMMARY: The U.S. Department of Commerce (Commerce) published a notice in the Federal Register of July 17, 2024, in which Commerce implemented a certification regime. This notice incorrectly stated that post-summary corrections must be filed to upload certifications for applicable unliquidated entries of wooden cabinets and vanities and components thereof (wooden cabinets) from China.

FOR FURTHER INFORMATION CONTACT: Michael Romani, AD/CVD Operations, Office I, Enforcement and Compliance, International Trade Administration, U.S. Department of Commerce, 1401 Constitution Avenue NW, Washington, DC 20230; telephone: (202) 482-0198.

SUPPLEMENTARY INFORMATION:

Background

On April 21, 2020, Commerce published the antidumping and countervailing duty orders on wooden cabinets from China.¹ On July 17, 2024, Commerce published in the Federal Register the final scope determination in which Commerce implemented a certification regime.² This notice incorrectly stated that post-summary corrections must be filed to upload certifications for applicable unliquidated entries that were subject to the scope inquiry concerning wooden cabinets from China. However, post-summary corrections are not needed for certain such entries.

¹ See Wooden Cabinets and Vanities and Components Thereof from the People's Republic of China: Antidumping Duty Order, 85 FR 22126 (April 21, 2020); and Wooden Cabinets and Vanities and Components Thereof from the People's Republic of China: Countervailing Duty Order, 85 FR 22134 (April 21, 2020) (collectively, Orders).

² See Wooden Cabinets and Vanities and Components Thereof from the People's Republic of China: Final Scope Determination, Certification Requirements, and Rescission of Circumvention Inquiries on the Antidumping and countervailing Duty Orders, 89 FR 58110 (July 17, 2024), as corrected in Wooden Cabinets and Vanities and Components Thereof from the People's Republic of China: Final Scope Determination, Certification Requirements, and Recission of Circumvention Inquiries on the Antidumping and Countervailing Duty Orders; Correction, 89 FR 63404 (August 5, 2024).

Correction

In the Federal Register of July 17, 2024, in FR Doc 2024-15681, on page 58112, in the third column, correct the text in the first full paragraph by striking the last sentence in the first full paragraph and adding the following sentence to the end of the paragraph: “Importers of this merchandise, that was declared as non-AD/CVD type (e.g., type 01) and is not subject to the Orders must upload certifications into the DIS in ACE for applicable unliquidated entries and applicable entries for which liquidation has not become final.” The corrected paragraph is attached to this notice in the appendix.

Notification to Interested Parties

This notice is issued and published in accordance with section 777(i) of the Tariff Act of 1930, as amended, 19 CFR 351.225(h), and 19 CFR 351.228.

Dated: October 17, 2024.
Ryan Majerus,
Deputy Assistant Secretary for Policy and Negotiations, performing the non-exclusive functions and duties of the Assistant Secretary for Enforcement and Compliance.

Appendix

Certification Requirements for Malaysia and Vietnam

For all wooden cabinets entered, or withdrawn from warehouse, for consumption during the period November 4, 2021 (the effective date of the regulations pursuant to 19 CFR 351.225(l)(2)), through the date of the publication of this Federal Register notice, where an entry has not been liquidated (and for entries for which liquidation has not become final), the relevant certifications should be completed and signed as soon as practicable, but not later than 90 days after the date of publication of this notice in the Federal Register. It is not necessary to file certifications in the DIS for entries from this period that have already been liquidated. For entries from this period, importers, and exporters each have the option to complete a blanket certification covering multiple entries, individual certifications for each entry, or a combination thereof. The exporter must provide the importer with a copy of the exporter certification with sufficient time for the importer to meet the 90-day deadline. Importers of this merchandise, that was declared as non-AD/CVD type (e.g., type 01) and is not subject to the Orders must upload certifications into the DIS in ACE for applicable unliquidated entries and applicable entries for which liquidation has not become final.

[FR Doc. 2024-24551 Filed 10-22-24; 8:45 am]

BILLING CODE 3510-DS-P